DEPARTMENT OF COMMERCE

Bureau of Industry and Security

Action Affecting Export Privileges; Pars Company, Inc.; Order Denying Export Privileges

On September 4, 2001, a U.S. District Court in the Eastern District of North Carolina convicted Pars Company, Inc. of violating the International Emergency Economic Powers Act (50 U.S.C. 1701-1706 (1994 & Supp. V 1999)) (“IEEPA”). Specifically, the Court found that Pars Company, Inc. exported and attempted to export goods and technology to a person in a third country with knowledge that the goods and technology were intended to be supplied to Iran.

Section 11(h) of the Export Administration Act of 1979, as amended (currently codified at 50 U.S.C. app 2401-2420 (1994 & Supp. V 1999)) (“Act”)¹ provides that, at the discretion of the Secretary of Commerce,² no person convicted of violating any of a number of federal criminal statutes including the IEEPA shall be eligible to apply for or use any export license issued pursuant to, or provided, by the Act or the Export Administration Regulations (currently codified at 15 CFR parts 730-774 (2002)) (“Regulations”), for a period of up to 10 years from the date of the conviction. In addition, any license issued pursuant to the Act in which such a person had any interest at the time of conviction may be revoked.

¹ From August 21, 1994 through November 12, 2000, the Act was in lapse. During that period, the President, through Executive Order 12924, which had been extended by successive Presidential Notices, the last of which was issued on August 3, 2000 (3 CFR, 2000 comp. 397 (2001)), continued the Regulations in effect under the International Emergency Economic Powers Act (50 U.S.C. 1701-1706 (1994 & Supp. V 1999)) (IEEPA). On November 13, 2000, the Act was reauthorized and it remained in effect through August 20, 2001. Since August 21, 2001, the Act has been in lapse and the President, through Executive Order 13222 of August 17, 201 (3 CFR, 2001 comp. 783 (2002)), as extended by the Notice of August 14, 2002 (67 FR 53721, August 16, 2002), has continued the Regulations in effect under IEEPA.

² Pursuant to appropriate delegations of authority that are reflected in the Regulations, the Director, Office of the Exporter Services, in consultation with the Director, Office of Export Enforcement, exercises the authority granted to the Secretary by section 11(h) of the Act.

Pursuant to sections 766.25 and 750.8(a) of the Regulations, upon notification that a person has been convicted of violating the IEEPA, the Director, Office of Exporter Services, in consultation with the Director, Office of Export Enforcement, shall determine whether to deny that person's export privileges for a period of up to 10 years from the date of conviction and shall also determine whether to revoke any license previously issued to such a person.

Having received notice of Par Company, Inc.'s conviction for violating the IEEPA, and after providing notice and an opportunity for Pars Company, Inc. to make a written submission to the Bureau of Industry and Security before issuing an Order denying his export privileges, as provided in Section 766.25 of the Regulations, I, following consultations with the Director, Office of Export Enforcement, have decided to deny Pars Company, Inc.'s export privileges for a period of nine years from the date of its conviction. The nine-year period ends on September 4, 2010. I have also decided to revoke all licenses issued pursuant to the Act in which Pars Company, Inc. had an interest at the time of its conviction.

Accordingly, it is hereby ordered:

I. Until September 4, 2010, Pars Company, Inc., 200 Mainstail Drive, Cary, North Carolina 27511, (“the denied person”) and, when acting in behalf of it, all of its successors or assigns, officers, representatives, agent and employees, may not, directly or indirectly, participate in any way in any transaction involving any commodity, software or technology (hereinafter collectively referred to as “item”) exported or to be exported from the United States, that is subject to the Regulations, or in any other activity subject to the Regulations, including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the Regulations, or in any other activity subject to the Regulations; or

C. Benefitting in any way from any transaction involving any item exported or to be exported from the United States that is subject to the Regulations, or in any other activity subject to the Regulations.

II. No person may, directly or indirectly, do any of the following:

A. Export or reexport to or on behalf of the denied person any item subject to the Regulations;

Take any action that facilitates the acquisition or attempted acquisition by the denied person of the ownership, possession, or control of any item subject to the Regulations that has been or will be exported from the United States, including financing or other support activities related to a transaction whereby the denied person acquires or attempts to acquire such ownership, possession or control;

C. Take any action to acquire from or to facilitate the acquisition or attempted acquisition from the denied person of any item subject to the Regulations that has been exported from the United States;

D. Obtain from the denied person in the United States any item subject to the Regulations with knowledge or reason to know that the item will be, or is intended to be, exported from the United States; or

E. Engage in any transaction to service any item subject to the Regulations that has been or will be exported from the United States and which is owned, possessed or controlled by the denied person, or service any item, of whatever origin, that is owned, possessed or controlled by the denied person if such service involves the use of any item subject to the Regulations that has been or will be exported from the United States. For purposes of this paragraph, servicing means installation, maintenance, repair, modification or testing.

III. After notice and opportunity for comment as provided in Section 766.23 of the Regulations, any person, firm, corporation, or business organization related to Pars Company, Inc. by affiliation, ownership, control, or position of responsibility in the conduct of trade or related services may also be subject to the provisions of this Order.

IV. This Order does not prohibit any export, reexport, or other transaction subject to the Regulations where the only items involved that are subject to the regulations are the foreign-produced direct product of U.S.-origin technology.

V. This Order is effective immediately and shall remain in effect until September 4, 2010.

VI. In accordance with Part 765 of the Regulations, Pars Company, Inc. may file an appeal from this Order with the Under Secretary for Industry and Security. The appeal must be filed within 45 days from the date of this Order and must comply with the provisions of Part 756 of the Regulations.

VII. A copy of this Order shall be delivered to Pars Company, Inc. This Order shall be published in the Federal Register.

Dated: October 21, 2002.
Eileen M. Albanese,
Director, Office of Exporter Services.

[FR Doc. 02-27427 Filed 10-29-02; 8:45 am]

BILLING CODE 3510-DT-M